DEPARTMENT OF ENERGY

Federal Energy Regulatory Commission

[Project No. 14569-000]

KC Small Hydro, LLC; Notice of Preliminary Permit Application Accepted for Filing and Soliciting Comments, Motions To Intervene, and Competing Applications

On December 5, 2013, KC Small Hydro, LLC, filed an application for a preliminary permit, pursuant to section 4(f) of the Federal Power Act (FPA), proposing to study the feasibility of hydropower at the existing Scoby dam located on Cattaraugus Creek in Erie County, New York. The sole purpose of a preliminary permit, if issued, is to grant the permit holder priority to file a license application during the permit term. A preliminary permit does not authorize the permit holder to perform any land-disturbing activities or otherwise enter upon lands or waters owned by others without the owners' express permission.

The proposed Scoby Dam Hydropower Project would consist of the following: (1) An existing 338-foot-long and 40-foot-high ogee-shaped concrete gravity dam with a 183-foot-long spillway; (2) an existing impoundment having a surface area of 22 acres and a storage capacity of 52 acre-feet at an elevation of 1,080 feet mean sea level (msl); (3) two new Archimedes screw turbine-generator units with an installed capacity of 250 kilowatts each; (4) a new 480-volt, approximately 1-mile-long transmission line extending from the site to an existing three-phase line; and (5) appurtenant facilities. The proposed project would have an annual generation of 1.5 gigawatt-hours.

Applicant Contact: Kelly Sackheim, KC Small Hydro, LLC, 5096 Cocoa Palm Way, Fair Oaks, CA 95628; phone: (301) 401-5978.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14569-000.

More information about this project, including a copy of the application, can be viewed or printed on the “eLibrary” link of Commission's Web site at http://www.ferc.gov/docs-filing/elibrary.asp. Enter the docket number (P-14569) in the docket number field to access the document. For assistance, contact FERC Online Support.

Dated: March 20, 2014.
Kimberly D. Bose,
Secretary.

[FR Doc. 2014-06879 Filed 3-27-14; 8:45 am]

BILLING CODE 6717-01-P